DEPARTMENT OF ENERGY

Federal Energy Regulatory Commission

Combined Notice of Filings #1

Take notice that the Commission received the following electric corporate filings:

Docket Numbers: EC24-118-000.

Applicants: Shady Hills Power Company, L.L.C.

Description: Application for Authorization Under Section 203 of the Federal Power Act of Shady Hills Power Company, L.L.C.

Filed Date: 9/6/24.

Accession Number: 20240906-5223.

Comment Date: 5 p.m. ET 9/27/24.

Take notice that the Commission received the following electric rate filings:

Docket Numbers: ER23-1851-009.

Applicants: PJM Interconnection, L.L.C.

Description: Tariff Amendment: Third Status Report—Amended ISA-CSA, SA Nos. 6917-6918; Queue No. AD1-031 to be effective 10/26/2023.

Filed Date: 9/9/24.

Accession Number: 20240909-5077.

Comment Date: 5 p.m. ET 9/30/24.

Docket Numbers: ER23-2764-003.

Applicants: Northeastern Power & Gas, LLC.

Description: Response to 07/02/2024 Deficiency Letter of Northeastern Power & Gas, LLC.

Filed Date: 8/30/24.

Accession Number: 20240830-5357.

Comment Date: 5 p.m. ET 9/19/24.

Docket Numbers: ER24-965-003.

Applicants: Versant Power.

Description: Tariff Amendment: Request to Un-Pause Action on Notice of Cancellation ER24-965 to be effective 11/20/2023.

Filed Date: 9/9/24.

Accession Number: 20240909-5070.

Comment Date: 5 p.m. ET 9/30/24.

Docket Numbers: ER24-1431-002.

Applicants: Southwestern Public Service Company.

Description: Southwestern Public Service Company submits a compliance filing to the 08/02/2024 Commission order.

Filed Date: 8/30/24.

Accession Number: 20240830-5349.

Comment Date: 5 p.m. ET 9/20/24.

Docket Numbers: ER24-2144-001.

Applicants: PPL Electric Utilities Corporation, PJM Interconnection, L.L.C.

Description: PPL Electric Utilities Corporation submits this compliance filing with respect to its request for authorization to recover 100% of the prudently incurred costs pursuant to the Commission's 07/29/2024 Order.

Filed Date: 9/5/24.

Accession Number: 20240905-5192.

Comment Date: 5 p.m. ET 9/26/24.

Docket Numbers: ER24-2999-000.

Applicants: PJM Interconnection, L.L.C.

Description: § 205(d) Rate Filing: Original NSA, Service Agreement No. 7345; AE1-113/AE2-255 to be effective 11/6/2024.

Filed Date: 9/6/24.

Accession Number: 20240906-5174.

Comment Date: 5 p.m. ET 9/27/24.

Docket Numbers: ER24-3000-000.

Applicants: Northern States Power Company, a Minnesota corporation.

Description: § 205(d) Rate Filing: 2024-09-06 CapX2020 MURA—686 0.0.0 to be effective 8/8/2024.

Filed Date: 9/6/24.

Accession Number: 20240906-5180.

Comment Date: 5 p.m. ET 9/27/24.

Docket Numbers: ER24-3001-000.

Applicants: Southwest Power Pool, Inc.

Description: § 205(d) Rate Filing: 3870R1 White Rock Wind West GIA to be effective 8/29/2024.

Filed Date: 9/9/24.

Accession Number: 20240909-5007.

Comment Date: 5 p.m. ET 9/30/24.

Docket Numbers: ER24-3002-000.

Applicants: North Rosamond Solar, LLC.

Description: § 205(d) Rate Filing: Certificates of Concurrence for Shared Facilities Common Ownership Agreements to be effective 9/10/2024.

Filed Date: 9/9/24.

Accession Number: 20240909-5055.

Comment Date: 5 p.m. ET 9/30/24.

Docket Numbers: ER24-3003-000.

Applicants: North Rosamond Solar, LLC.

Description: Tariff Amendment: Notice of Cancellation to be effective 9/10/2024.

Filed Date: 9/9/24.

Accession Number: 20240909-5064.

Comment Date: 5 p.m. ET 9/30/24.

Docket Numbers: ER24-3004-000.

Applicants: Nevada Power Company.

Description: § 205(d) Rate Filing: First Amended and Restated Reid Gardner BESS LGIA and PLGIA to be effective 8/1/2024.

Filed Date: 9/9/24.

Accession Number: 20240909-5074.

Comment Date: 5 p.m. ET 9/30/24.

Docket Numbers: ER24-3005-000.

Applicants: Eldorado Solar Project, LLC.

Description: Baseline eTariff Filing: Eldorado Solar Application for Market-Based Rate Authority to be effective 10/28/2024.

Filed Date: 9/9/24.

Accession Number: 20240909-5093.

Comment Date: 5 p.m. ET 9/30/24.

Docket Numbers: ER24-3006-000.

Applicants: Hummingbird Energy LLC.

Description: Hummingbird Energy LLC submits request for a one-time, limited waiver of the deadlines set forth in Section 309(A)(1)(h) of the PJM Interconnection, L.L.C. Open Access Transmission Tariff.

Filed Date: 9/6/24.

Accession Number: 20240906-5221.

Comment Date: 5 p.m. ET 9/27/24.

Docket Numbers: ER24-3007-000.

Applicants: Nevada Power Company.

Description: § 205(d) Rate Filing: NPC—First Amended and Restated Reid Gardner BESS LGIA and PLGIA to be effective 9/10/2024.

Filed Date: 9/9/24.

Accession Number: 20240909-5135.

Comment Date: 5 p.m. ET 9/30/24.

Docket Numbers: ER24-3008-000.

Applicants: PJM Interconnection, L.L.C.

Description: § 205(d) Rate Filing: Original GIA Service Agreement No. 7342, AF2-187 to be effective 8/8/2024.

Filed Date: 9/9/24.

Accession Number: 20240909-5141.

Comment Date: 5 p.m. ET 9/30/24.

Docket Numbers: ER24-3009-000.

Applicants: Duke Energy Florida, LLC.

Description: § 205(d) Rate Filing: DEF-FPL Revised Contract for Interchange Service RS No. 81 to be effective 11/9/2024.

Filed Date: 9/9/24.

Accession Number: 20240909-5147.

Comment Date: 5 p.m. ET 9/30/24.

Docket Numbers: ER24-3010-000.

Applicants: Northern Indiana Public Service Company LLC.

Description: § 205(d) Rate Filing: Certificate of Concurrence to be effective 8/21/2024.

Filed Date: 9/9/24.

Accession Number: 20240909-5169.

Comment Date: 5 p.m. ET 9/30/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 9, 2024.
Debbie-Anne A. Reese,
Acting Secretary.

[FR Doc. 2024-20829 Filed 9-12-24; 8:45 am]

BILLING CODE 6717-01-P